NATIONAL CREDIT UNION ADMINISTRATION

Sunshine Act: Notice of Agency Meeting

TIME AND DATE: 10:00 a.m., Thursday, December 17, 2020.

PLACE: Due to the COVID-19 Pandemic, the meeting will be open to the public via live webcast only. Visit the agency's homepage (www.ncua.gov.) and access the provided webcast link.

STATUS: This meeting will be open to the public.

MATTERS TO BE CONSIDERED:

1. NCUA Rules and Regulations, Field of Membership Shared Facility Requirements.

2. NCUA Rules and Regulations, Regulatory Relief in Response to COVID-19.

3. NCUA Rules and Regulations, Mortgage Servicing Rights.

4. NUCA Rules and Regulations, Overdraft Policy.

5. NCUA Rules and Regulations, Subordinated Debt.

6. Board Briefing, Share Insurance Fund 2021 Normal Operating Level.

CONTACT PERSON FOR MORE INFORMATION: Melane Conyers-Ausbrooks, Secretary of the Board, Telephone: 703-518-6304.

Melane Conyers-Ausbrooks,
Secretary of the Board.

[FR Doc. 2020-27616 Filed 12-11-20; 11:15 am]

BILLING CODE 7535-01-P